DEPARTMENT OF COMMERCE

[I.D. 100104D]

Submission for OMB Review; Comment Request

The Department of Commerce has submitted to the Office of Management and Budget (OMB) for clearance the following proposal for collection of information under the provisions of the Paperwork Reduction Act (44 U.S.C. Chapter 35).

Agency: National Oceanic and Atmospheric Administration (NOAA).

Title: Sea Grant Program Application Requirements for Grants, for Sea Grant Fellowships, including the Dean John A. Knauss Marine Policy Fellowships, and for Designation as a Sea Grant College or Sea Grant Institute.

Form Number(s): NOAA Forms 90-1, 90-2, and 90-4.

OMB Approval Number: 0648-0362.

Type of Request: Regular submission.

Burden Hours: 672.

Number of Respondents: 121.

Average Hours Per Response: 30 minutes for Sea Grant Control form; 20 minutes for Project Record form; 15 minutes for Sea Grant Budget form; 20 hours for Application for Designation as a Sea Grant College or Regional Consortia; 2 hours for Application for Sea Grant Fellowships, including Dean John A. Knauss Marine Policy Fellowship.

Needs and Uses: Applications are required for the designation of a public or private institution of higher education, institute, laboratory, or State or local agency as a Sea Grant college or Sea Grant institute. The applications are also required in order to be awarded a Sea Grant Fellowship, including the Dean John A. Knauss Marine Policy Fellowships. The grant monies are available for funding activities that help attain the objectives of the Sea Grant Program. In addition to the Standard Form-424 and other standard grant application requirements, three additional forms are required with a grant application. These are the Sea Grant Control Form, used to identify the organizations and personnel who would be involved in the grant; the Project Record Form, which collects summary data on projects; and the Sea Grant Budget Form (used in place of the SF-424a).

Affected Public: State, Local or Tribal Government; not-for-profit institutions; individuals or households.

Frequency: On Occasion, Annually.

Respondent's Obligation: Required to obtain or retain benefits.

OMB Desk Officer: David Rostker, (202) 395-3897.

Copies of the above information collection proposal can be obtained by calling or writing Diana Hynek, Departmental Paperwork Clearance Officer, (202) 482-0266, Department of Commerce, Room 6625, 14th and Constitution Avenue, NW, Washington, DC 20230 (or via the Internet at dHynek@doc.gov).

Written comments and recommendations for the proposed information collection should be sent within 30 days of publication of this notice to David Rostker, OMB Desk Officer, FAX number (202) 395-7285, or David_Rostker@omb.eop.gov.

Dated: September 29, 2004.
Gwellnar Banks,
Management Analyst, Office of the Chief Information Officer.

[FR Doc. 04-22514 Filed 10-5-04; 8:45 am]

BILLING CODE 3510-KA-S